DEPARTMENT OF LABOR

Employment and Training Administration

[TA-W-65,565]

Chrysler Quality Engineering Center, Auburn Hills, MI; Notice of Termination of Investigation

Pursuant to Section 221 of the Trade Act of 1974, as amended, an investigation was initiated on March 11, 2009, in response to a petition filed on behalf of workers at Chrysler Quality Engineering Center, Auburn Hills, Michigan.

The petitioner has requested that the petition be withdrawn. Consequently, the investigation has been terminated.

Signed at Washington, DC, this 4th day of May 2009.
Elliott S. Kushner,
Certifying Officer, Division of Trade Adjustment Assistance.

[FR Doc. E9-13445 Filed 6-8-09; 8:45 am]

BILLING CODE 4510-FN-P